SECURITIES AND EXCHANGE COMMISSION

[File No. 500-1]

International Building Technologies Group, Inc., Regeneca, Inc., Retail Pro, Inc., and Tri-Valley Corporation, Order of Suspension of Trading

August 20, 2014.

It appears to the Securities and Exchange Commission that there is a lack of current and accurate information concerning the securities of International Building Technologies Group, Inc. because it has not filed any periodic reports since the period ended September 30, 2011.

It appears to the Securities and Exchange Commission that there is a lack of current and accurate information concerning the securities of Regeneca, Inc. because it has not filed any periodic reports since the period ended September 30, 2011.

It appears to the Securities and Exchange Commission that there is a lack of current and accurate information concerning the securities of Retail Pro, Inc. because it has not filed any periodic reports since the period ended December 31, 2007.

It appears to the Securities and Exchange Commission that there is a lack of current and accurate information concerning the securities of Tri-Valley Corporation because it has not filed any periodic reports since the period ended March 31, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 20, 2014, through 11:59 p.m. EDT on September 3, 2014.

By the Commission.
Jill M. Peterson,
Assistant Secretary.

[FR Doc. 2014-20110 Filed 8-20-14; 4:15 pm]

BILLING CODE 8011-01-P